NATIONAL LABOR RELATIONS BOARD

Notice of Appointments of Individuals To Serve as Members of Performance Review Boards

AGENCY: National Labor Relations Board.

ACTION: Updated notice; appointment to serve as members of performance review boards.

SUMMARY: On October 23, 2024, the National Labor Relations Board published a notice of appointments of individuals to serve as members of performance review boards for the rating year beginning October 1, 2023 and ending September 30, 2024. Due to the addition of another alternate, the National Labor Relations Board is issuing this updated notice with current membership identified below.

FOR FURTHER INFORMATION CONTACT: Roxanne L. Rothschild, Executive Secretary, National Labor Relations Board, 1015 Half Street SE, Washington, DC 20570, (202) 273-1940 (this is not a toll-free number), 1-866-315-6572 (TTY/TDD).

SUPPLEMENTARY INFORMATION:

Name and Title

Joan A. Sullivan—Associate General Counsel, Division of Operations Management

Peter Sung Ohr—Associate General Counsel, Office of the General Counsel

Nancy Kessler Platt—Associate General Counsel, Division of Legal Counsel

Andrew Krafts—Executive Assistant to the Chairman (Chief of Staff), The Board

Grant Kraus—Deputy Chief Counsel, The Board

Ruth Burdick—(alternate) Deputy Associate General Counsel, Division of Enforcement Litigation, Appellate and Supreme Court Litigation Branch

Roxanne L. Rothschild—(alternate) Executive Secretary, The Board

Authority: 5 U.S.C. 4314(c)(4).

By Direction of the Board.
Dated: December 4, 2024.
Roxanne L. Rothschild,
Executive Secretary.

[FR Doc. 2024-28877 Filed 12-9-24; 8:45 am]

BILLING CODE 7545-01-P